DEPARTMENT OF JUSTICE

Antitrust Division

Notice Pursuant to the National Cooperative Research and Production Act Of 1993—Defense Industrial Based Consortium

Notice is hereby given that, on February 21, 2024, pursuant to section 6(a) of the National Cooperative Research and Production Act of 1993, 15 U.S.C. 4301 et seq. (“the Act”), Defense Industrial Based Consortium (“DIBC”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture are: AAPlasma LLC, Philadelphia, PA; Accipiter Systems, Inc., Wexford, PA; ACMI Austin LLC, Austin, TX; Adaptive Dynamics, Inc., San Diego, CA; ADDX Corp., Alexandria, VA; AI Strategy Corp., Babylon, NY; Allegheny Technologies, Inc., Pittsburgh, PA; Amyris, Inc., Emeryville, CA; Applied Research Associates, Inc., Albuquerque, NM; ARCHEM LLC, Shreveport, LA; ARCTOS Technology Solutions LLC, Beavercreek, OH; AURA Technologies LLC, Carrboro, NC; Aveox, Inc., Simi Valley, CA; Barber-Nichols LLC, Arvada, CO; Bath Iron Works Corp., Bath, ME; Battelle Memorial Institute, Columbus, OH; Big Metal Additive, Denver, CO; BlackSky Geospatial Solutions, Inc., Herndon, VA; Boarhog LLC, San Diego, CA; Booz Allen Hamilton, Inc., McLean, VA; Bren-Tronics, Inc., Commack, NY; Cambium Biomaterials, Inc., Mojave, CA; Castelion Corp., El Segundo, CA; CFD Research Corp., Huntsville, AL; Combustion Research & Flow Technology, Inc., Pipersville, PA; Concurrent Technologies Corp., Johnstown, PA; Corvid Technologies LLC, Mooresville, NC; CR Access Consulting LLC, Virginia Beach, VA; Crean & Associates, Inc., Lakeway, TX; Cryptic Vector LLC, Liberty Township, OH; Curtiss-Wright EMD, Cheswick, PA; CVX Instruments LLC, Charlevoix, MI; CyKor LLC, Annapolis, MD; D'Angelo Technologies LLC, Beavercreek, OH; Decision Sciences, Inc., Fort Walton Beach, FL; Defense Industry Advisors LLC, St. Petersburg, FL; Delta Development Team, Inc., Tucson, AZ; Design West Technologies, Inc., Tustin, CA; DuPont Specialty Products USA LLC, Circleville, OH; Eduworks, Corvallis, OR; ElbitAmerica, Inc., Fort Worth, TX; Elder, Robert James, Shreveport, LA; Ellwood Material Technologies, New Castle, PA; Empirical Systems Aerospace, Inc., San Luis Obispo, CA; Enduralock LLC, Lenexa, KS; Espey Mfg & Electronics Corp., Saratoga Springs, NY; Exosonic, Inc., Torrance, CA; Fabrisonic LLC, Lewis Center, OH; Foursyte LLC, Ashburn, VA; General Dynamics Ordnance & Tactical Systems, Inc., St. Petersburg, FL; GIRD Systems, Inc., Cincinnati, OH; GLOBAL CIRCUIT INNOVATONS, Inc., Colorado Springs, CO; Gradient Technology, ELK RIVER, MN; Granite State Manufacturing, Manchester, NH; Hawk Technologies LLC, Hancock, MI; HDT Expeditionary Systems, Inc., Fredericksburg, VA; Heka Aero LLC, Melbourne, FL; Hermeus Corp., Atlanta, GA; Idaho Scientific LLC, Boise, ID; Infinity Systems Engineering, Colorado Springs, CO; Innoveering LLC, Bohemia, NY; Integra Technologies, Wichita, KS; Integration Innovation, Inc., Huntsville, AL; Intertek Laboratories, Inc., Stirling, NJ; iWorks Corp., Reston, VA; JR3 Consulting LLC, Huntsville, AL; Keselowski Advanced Manufacturing LLC, Statesville, NC; Kinnami Software Corp., Braintree, MA; Kratos Defense & Rocket Support Services, Inc., Huntsville, AL; Kratos SRE, Inc., San Diego, CA; Leidos, Inc., Reston, VA; Leonardo DRS Naval Power Systems, Menomonee Falls, WI; Lockheed Martin-Missiles & Fire Control, Orlando, FL; Martinez and Turek, Inc., Rialto, CA; McCormick Stevenson Corp., Clearwater, FL; Mercury Systems, Inc., Andover, MA; MetalTek International, Waukesha, WI; Mission Focused Systems, Inc., Royersford, PA; Motorola Solutions, Inc., Chicago, IL; NAL Research Corp., Manassas, VA; Nalas Engineering Services, Inc., Centerbrook, CT; Nanohmics, Inc., Austin, TX; NASCENTechnology Manufacturing, Inc., Watertown, SD; Near Earth Autonomy, Inc., Pittsburgh, PA; Next Semiconductor Technologies, Inc., San Diego, CA; Non-Ferrous Founders Society, Sturgis, MI; Northrop Grumman Systems Corp., McLean, VA; Northrop Grumman Systems Corp.—Armament Systems Business Unit, Plymouth, MN; Nostromo LLC, Kennebunk ME; NWI Defense LLC, Albany, OR; Oceaneering International, Inc., Hanover, MD; Ohio Semitronics, Inc., Hilliard, OH; Olin Winchester LLC, Independence, MO; Onyx Aerospace, Huntsville, AL; Opto-Knowledge Systems, Inc., Torrance, CA; Orolia Government Systems, Inc., Rochester, NY; OToole Tek LLC, Rocky Hill, CT; Parallax Advanced Research, Beavercreek, OH; Physical Sciences, Inc., Andover, MA; Pison Technology, Inc., Boston, MA; Plasma Processes LLC, Huntsville, AL; Practical Energetics Research, Inc., Huntsville, AL; Production Systems Automation LLC, Duryea, PA; Questek Innovations LLC, Evanston, IL; Raytheon, Tucson, AZ; R-DEX Systems, Inc., Woodstock, GA; Rebling Plastics, Warrington, PA; REDLattice, Inc., Chantilly, VA; Rhoads Industries, Inc., Philadelphia, PA; Rocky Mountain Scientific Laboratory, Littleton, CO; Russell Technical Consulting Services LLC, Huntsville, AL; SAVIT Corp., Rockaway, NJ; SB Technology Federal, Inc., Tarrytown, FL; SCHOTT North America, Inc., Duryea, PA; Sentient Science, Buffalo, NY; Siemens Government Technologies, Inc., Reston, VA; Sigma Defense Systems LLC, Perry, GA; Signature Science LLC, Austin, TX; Skuld LLC, London, OH; Southeastern New England Defense Industry Alliance, Middletown, RI; Southwest Research Institute, San Antonio, TX; SRI International, Menlo Park, CA; Strategic Technology Consulting LLC, Toms River, NJ; Strogen Strategic Sustainability, Washington, DC; SURVICE Engineering Company LLC, Belcamp, MD; Synthio Chemicals, Inc., Broomfield, CO; Systecon North America, Juno Beach, FL; Teledyne FLIR Commercial Systems, Goleta, CA; Texas Research Institute Austin, Inc., Austin, TX; The Boeing Company, St Louis, MO; The Johns Hopkins University Applied Physics Laboratory, Laurel, MD; The University of Alabama in Huntsville, Huntsville, AL; Thomas & Skinner, Inc., Indianapolis, IN; Trillium Engineering, Hood River, OR; UES, Inc., Dayton, OH; University of Arizona Applied Research Corp., Tucson, AZ; US Partnership for Assured Electronics, Washington, DC; Vega Technology Group LLC, North Canton, OH; VPI Technology, Draper, UT; W R Systems Ltd., Fairfax, VA; and W.S. Darley & Co., Itasca, IL.

The general area of DIBC's planned activity is to conduct research and development and prototyping of projects and programs for purposes of strengthening the Defense Industrial Base (DIB). At the time of this filing, the DIBC's critical sectors and subsectors are as follows: (1) kinetic capabilities (i.e. hypersonics), (2) energy storage and batteries, (3) castings and forgings, (4) microelectronics, (5) critical chemicals and minerals, (6) Small Unmanned Aerial Systems (sUAS), (7) Rare Earth Elements (REFs), (8) critical materials, (9) submarine industrial base, (10) space industry base, (11) biomanufacturing, and 12) workforce development. The Consortium was formed effective December 31, 2023.

Suzanne Morris,
Deputy Director Civil Enforcement Operations, Antitrust Division.

[FR Doc. 2024-13738 Filed 6-21-24; 8:45 am]

BILLING CODE P